Title 3—

The President

Proclamation 10575 of May 9, 2023

Revoking the Air Travel COVID-19 Vaccination Requirement

By the President of the United States of America

A Proclamation

Today, we are in a different phase of the response to the coronavirus disease 2019 (COVID-19) pandemic than we were in October 2021, when I issued Proclamation 10294 of October 25, 2021 (Advancing the Safe Resumption of Global Travel During the COVID-19 Pandemic). At the time, new variants of SARS-CoV-2, the virus that causes COVID-19, had emerged globally and my Administration was responding to variants that were more transmissible or caused more severe disease than the original virus strain. Consistent with guidance from our public health experts, I determined that it was in the interests of the United States to adopt an international air travel policy that relied primarily on vaccination to limit the risk that the COVID-19 virus, including variants of that virus, would be introduced, transmitted, and spread into and throughout the United States.

Now, we have successfully marshaled a whole-of-government response to make historic investments in broadly accessible vaccines, tests, and therapeutics to help us combat COVID-19. Our public health experts have issued guidance that allows all travelers to understand mitigation measures to protect themselves and those around them. Our healthcare system and public health resources throughout the country are now better able to respond to any potential surge of COVID-19 cases without significantly affecting access to resources or care. Globally, COVID-19 cases and deaths are at their lowest levels since the start of the pandemic. As we continue to monitor the evolving state of COVID-19 and the emergence of virus variants, we have the tools to detect and respond to the potential emergence of a variant of high consequence. Considering the progress that we have made, and based on the latest guidance from our public health experts, I have determined that we no longer need the international air travel restrictions that I imposed in October 2021.

NOW, THEREFORE, I, JOSEPH R. BIDEN JR., President of the United States, by the authority vested in me by the Constitution and the laws of the United States of America, including sections 212(f) and 215(a) of the Immigration and Nationality Act, 8 U.S.C. 1182(f) and 1185(a), hereby find that, except as provided in any other applicable proclamation, the unrestricted entry of persons described in section 2 of Proclamation 10294 is no longer detrimental to the interests of the United States. I therefore hereby proclaim the following:

Section 1. Revocation. Proclamation 10294, except sections 1, 6, 7, and 8 thereof, is revoked.

Sec. 2. Review of Agency Actions. The Secretary of State, the Secretary of Health and Human Services (including through the Director of the Centers for Disease Control and Prevention), the Secretary of Transportation, and the Secretary of Homeland Security shall review any regulations, orders, guidance documents, policies, and any other similar agency actions developed pursuant to Proclamation 10294 and, as appropriate, shall consider revising or revoking these agency actions consistent with the policy set forth in this proclamation.

Sec. 3. Effective Date. This proclamation is effective at 12:01 a.m. eastern daylight time on May 12, 2023.

Sec. 4. General Provisions. (a) Nothing in this proclamation shall be construed to impair or otherwise affect:

(i) the authority granted by law to an executive department or agency, or the head thereof; or

(ii) the functions of the Director of the Office of Management and Budget relating to budgetary, administrative, or legislative proposals.

(b) This proclamation shall be implemented consistent with applicable law and subject to the availability of appropriations.

(c) This proclamation is not intended to, and does not, create any right or benefit, substantive or procedural, enforceable at law or in equity by any party against the United States, its departments, agencies, or entities, its officers, employees, or agents, or any other person.

IN WITNESS WHEREOF, I have hereunto set my hand this ninth day of May, in the year of our Lord two thousand twenty-three, and of the Independence of the United States of America the two hundred and forty-seventh.

[FR Doc. 2023-10406

Filed 5-12-23; 8:45 am]

Billing code 3395-F3-P